DEPARTMENT OF COMMERCE

National Technical Information Service

National Technical Information Service Advisory Board

AGENCY: National Technical Information Service, Commerce.

ACTION: Notice of open meeting.

SUMMARY: This notice announces the next meeting of the National Technical Information Service Advisory Board (the Advisory Board), which advises the Secretary of Commerce and the Director of the National Technical Information Service (NTIS) on policies and operations of the Service.

DATES: The Advisory Board will meet on Thursday, August 25 from 9 a.m. to approximately 4:15 p.m.

ADDRESSES: The Advisory Board meeting will be held in Room 115 of the NTIS Facility at 5301 Shawnee Road, Alexandria, Virginia 22312. Please note admittance instructions under the SUPPLEMENTARY INFORMATION section of this notice.

FOR FURTHER INFORMATION CONTACT: Mr. Steven D. Needle, (703) 605-6404, sneedle@ntis.gov.

SUPPLEMENTARY INFORMATION: The NTIS Advisory Board is established by Section 3704b(c) of Title 15 of the United States Code. The charter has been filed in accordance with the requirements of the Federal Advisory Committee Act, as amended (5 U.S.C. App.).

The morning session will feature a general review of NTIS lines of business, but the focus will be on strategic planning issues. The afternoon session will feature risk assessment from both an operational and strategic perspective and an opportunity to receive any public comments, as noted below. It will conclude with a roundtable discussion by the Board members and a variety of administrative matters. A final agenda and summary of the proceedings will be posted at the NTIS Web site as soon as they are available (http://www.ntis.gov/about/advisorybd.asp).

The NTIS Facility is a secure one. Accordingly, persons wishing to attend should call the contact identified above to arrange for admission. If there are sufficient expressions of interest up to one-half hour will be reserved for public comments during the afternoon session. Questions from the public will not be considered by the Board, but any person who wishes to submit a written statement for the Board's consideration should mail or e-mail it to the contacts named above not later than August 19, 2011.

Dated: July 18, 2011.
Bruce Borzino,
Director.

[FR Doc. 2011-18584 Filed 7-21-11; 8:45 am]

BILLING CODE 3510-04-P